DEPARTMENT OF TRANSPORTATION

Federal Aviation Administration

[Docket No. FAA-2025-0558]

Notice of Intent To Decommission Flight Service Remote Communications Outlets (RCOs)

AGENCY: Federal Aviation Administration (FAA).

ACTION: Request for public comment.

SUMMARY: The FAA requests public comment on the agency's intent to decommission the Flight Service network of communication frequencies for advisory services throughout the contiguous United States (CONUS), excluding those in Alaska.

DATES: Written comments should be submitted by May 27, 2025.

ADDRESSES: Please send written comments:

By Electronic Docket: www.regulations.gov (Enter docket number into search field).

By mail: 800 Independence Ave. SW, Washington, DC 20591, ATTN: Manager, Flight Service, Safety & Operations, AJR-B1.

FOR FURTHER INFORMATION CONTACT: Christopher Henne, Manger, Safety & Operations, (202) 267-6500 or by email at: 9-AJR-FSSOG@faa.gov, Subject: CONUS RCOs.

SUPPLEMENTARY INFORMATION:

Background: Flight Service provides inflight advisory services over a radio network of 936 frequencies throughout the CONUS, including Hawaii and Puerto Rico. This infrastructure was developed over 40 years ago, with little or no modifications since.

Flight Service has experienced reduction in the volume of requests for advisory services, and a resulting consolidation in Flight Service stations. In the mid-1980s, Flight Service received 22,000 service requests per day across this network, while today they receive fewer than 300 per day. In turn, from over 350 Flight Service stations with over 3,000 employees 40 years ago, there are now only two (2) facilities with fewer than 200 specialists. This 99% reduction in the volume of requests is not representative of a reduction in flights. Rather, it is a result of a move to new technology with no safety impacts. Technology (e.g., mobile technology) has made it possible for users today to receive the information and services that Flight Service provides without the need for radio communications.

The remaining infrastructure and staffing for this outdated method costs taxpayers millions of dollars annually to support the small number of pilots that have not converted to mobile technology. In January 2016, a MITRE study found that a vast majority of the frequencies were duplicate, overlapping and seldom used. In April 2016, the FAA published a Notice of Proposed Policy for FAA's proposed plan to decommission a number of RCOs and frequencies.¹ The FAA received 13 comments, made minor revisions to the decommission list, and published the final policy on August 30, 2017.² In 2017, the FAA decommissioned 641 frequencies, including 404 RCOs and 237 VOR outlets for a cost savings estimated at $2.5 million annually in maintenance costs, with additional savings realized once leases and voice switch infrastructure were decreased.

¹ 81 FR 25484 (April 28, 2016).

² 82 FR 41304 (August 30, 2017).

It is the FAA's intent to decommission all remaining 936 RCOs in CONUS after a final rule is published. The remaining list of 936 frequencies is available on the FAA website ³ and can be divided into two groups:

³ https://www.faa.gov/about/office_org/headquarters_offices/ato/service_units/systemops/fs.

(1) RCOs that aircraft can use to contact a flight service station by transmitting and receiving on a common or discrete frequency, for example, 122.2, 122.5, etc. There are 764 RCOs in the CONUS.

(2) Frequencies that are co-located with navigational aids, known as VORs, in which aircraft can contact flight service by transmitting on a frequency (usually 122.1) and receiving on the appropriate VOR frequency. There are 172 VOR frequencies in the CONUS.

After decommissioning these RCOs, Flight Service will no longer provide inflight advisory services in CONUS. All emergency frequencies will continue to be monitored through Air Traffic Control Facilities.

Safety Analysis: A Safety Risk Management Panel will be convened to analyze potential risk to the National Airspace System as a result of this change.

Public Comments Invited: The FAA is interested in comments concerning the move to decommission the remaining 936 Remote Communications Outlets in CONUS. Users are welcome to include comments concerning any other aspect of your experience with Flight Service.

The FAA will file in the docket all comments it receives, as well as a report summarizing each substantive public contact with FAA personnel concerning this action. Before acting on this notice, the FAA will consider all comments it receives on or before the closing date for comments. The FAA will consider comments filed after the comment period has closed if it is possible to do so without incurring expense or delay. The agency may change this notice in light of the comments it receives.

Issued in Washington, DC.
Kevin J. Hanson,
Director of Flight Service, AJR-B, Air Traffic Organization.

[FR Doc. 2025-05167 Filed 3-26-25; 8:45 am]

BILLING CODE 4910-13-P